DEPARTMENT OF THE INTERIOR

National Park Service

[NPS-WASO-NRNHL-DTS#-25843; PPWOCRADI0, PCU00RP14.R50000]

National Register of Historic Places; Notification of Pending Nominations and Related Actions

AGENCY: National Park Service, Interior.

ACTION: Notice.

SUMMARY: The National Park Service is soliciting comments on the significance of properties nominated before June 16, 2018, for listing or related actions in the National Register of Historic Places.

DATES: Comments should be submitted by July 24, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before June 16, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

San Francisco County

Fireman's Fund Insurance Company Home Office, 3333 California St., San Francisco, SG100002709

MICHIGAN

Houghton County

Hancock Central High School, 417 Quincy St., Hancock, SG100002713

Ingham County

Michigan School for the Blind, 715 W Willow St., Lansing, SG100002714

Kent County

Grand Rapids Christian High School, 415 Franklin St. SE, Grand Rapids, SG100002712

Additional documentation has been received for the following resource:

NEW YORK

Madison County

Spirit House, NY 26, Georgetown, AD06000160

Nomination submitted by Federal Preservation Officer:

The State Historic Preservation Officer reviewed the following nomination and responded to the Federal Preservation Officer within 45 days of receipt of the nomination and supports listing the property in the National Register of Historic Places.

VERMONT

Windsor County,

Hospital Building #1, (United States Second Generation Veterans Hospitals MPS), 215 N Main St., Hartford, MP100002715

Authority: Section 60.13 of 36 CFR part 60.

Dated: June 21, 2018.
Julie H. Ernstein,
Acting Chief, National Register of Historic Places/National Historic Landmarks Program, Deputy Keeper of the National Register of Historic Places.

[FR Doc. 2018-14601 Filed 7-6-18; 8:45 am]

BILLING CODE 4312-52-P